DEPARTMENT OF TRANSPORTATION

Federal Highway Administration

Environmental Impact Statement: Shelby, Tipton, Lauderdale, and Dyer Counties, TN

AGENCY: Federal Highway Administration (FHWA), DOT.

ACTION: Notice of intent.

SUMMARY: The FHWA is issuing this notice to advise the public that an Environmental Impact Statement (EIS) will be prepared for a proposed section of Interstate Highway 69 (I-69) in Shelby, Tipton, Lauderdale, and Dyer Counties, Tennessee beginning at State Route 385 (Paul Barrett Parkway) north of Memphis and extending to Dyersburg, Tennessee.

FOR FURTHER INFORMATION CONTACT: Mr. Mark Doctor, Field Operations Team Leader, Federal Highway Administration, 640 Grassmere Park Road, Suite 112, Nashville, Tennessee 37211, Telephone: (615) 781-5788.

SUPPLEMENTARY INFORMATION: The FHWA, in cooperation with the Tennessee Department of Transportation will prepare an Environmental Impact Statement (EIS) on a proposal for the construction of a four-lane freeway facility from State Route 385 (Paul Barrett Parkway) north of Memphis, Tennessee to Interstate 155 (I-155) near Dyersburg, Tennessee. The distance of this proposed project is approximately 104 kilometers (65 miles).

This proposed facility is identified as Segment of Independent Utility #8 of the Congressionally-designated High Priority Corridor 18 or Interstate 69. The overall purpose for this project is to improve international and interstate trade in accordance with national and state goals and to facilitate economic development in accordance with state, regional, and local policies, plans, and surface transportation consistent with national, state, regional, local needs and with Congressional designation of the corridor.

Alternatives under consideration include: (1) Taking no action (no-build); (2) reconstructing U.S. 51; (3) constructing a new facility east or west of existing U.S. 51; or (4) some combination of alternatives (2) and (3). Incorporated into and studied with the various build alternatives will be design variations of grade and alignment.

Letters describing the proposed action and soliciting comments will be sent to appropriate Federal, State, and local agencies, and to private organizations and citizens who have previously expressed or are known to have interest in this proposal. Public meetings will be held in each of the four counties included in this project to provide input into the development of this project. In addition, a public hearing will be held. Public notice will be given of the time and place of the meetings and hearing. The draft EIS will be available for public and agency review and comment prior to the public hearing. A formal scoping meeting is also planned.

To ensure that the full range of issues related to this proposed action are addressed and all significant issues identified, comments, and suggestions are invited from all interested parties. Comments or questions concerning this proposed action and the EIS should be directed to the FHWA at the address provided above.

(Catalog of Federal Domestic Assistance Program Number 20.205, Highway Planning and Construction. The regulations implementing Executive Order 12372 regarding Intergovernmental consultation on Federal programs and activities apply to this program.)

Issued on: May 10, 2001.
Charles S. Boyd,
Division Administrator, Nashville, Tennessee.

[FR Doc. 01-12506 Filed 5-17-01; 8:45 am]

BILLING CODE 4910-22-P